ENVIRONMENTAL PROTECTION AGENCY

40 CFR Part 300

[FRL-7377-3]

National Oil and Hazardous Substance Pollution Contingency Plan; National Priorities List

AGENCY: Environmental Protection Agency.

ACTION: Notice of intent to delete the Basic Microelectronics, Incorporated (BMI)-Textron Superfund Site from the National Priorities List.

SUMMARY: The Environmental Protection Agency (EPA) Region 4 is issuing a notice of intent to delete BMI-Textron Superfund Site (Site) located in Lake Park, West Palm Beach County, Florida, from the National Priorities List (NPL) and requests public comments on this notice of intent. The NPL, promulgated pursuant to section 105 of the Comprehensive Environmental Response, Compensation, and Liability Act (CERCLA) of 1980, as amended, is found at appendix B of 40 CFR part 300 which is the National Oil and Hazardous Substances Pollution Contingency Plan (NCP). The EPA and the State of Florida, through the Florida Department of Environmental Protection, have determined all the Potentially Responsible Partys (PRPs) have implemented all appropriate response actions under CERCLA, other than operation and maintenance and five-year reviews. However, this deletion does not preclude future actions under Superfund.

In the “Rules and Regulations” section of today's Federal Register, we are publishing a direct final notice of deletion of BMI-Textron Superfund Site without prior notice of intent to delete because we view this as a noncontroversial revision and anticipate no adverse comment. We have explained our reasons for this deletion in the preamble to the direct final deletion. If we receive no adverse comment(s) on the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by October 21, 2002.

ADDRESSES: Written comments should be addressed to: L'Tonya Spencer, Community Involvement Coordinator, U.S. Environmental Protection Agency, Region 4 (4WD-ERCIB), 61 Forsyth Street, Atlanta, GA 30303, spencer.latonya@epa.gov, (404) 562-8463, 1-800-564-7577.

FOR FURTHER INFORMATION CONTACT: Jan Martin, Remedial Project Manager, U.S. Environmental Protection Agency, Region 4 (4WD-SSMB); 61 Forsyth Street, SW., Atlanta, Georgia 30303, (404) 562-8593; martin.jan@epa.gov.

SUPPLEMENTARY INFORMATION: For additional information, see the Direct Final Notice of Deletion which is located in the Rules section of this Federal Register.

Information Repositories

Repositories have been established to provide detailed information concerning this decision at the following addresses:

U.S EPA Record Center, 61 Forsyth Street, SW., Atlanta, Georgia 30303, Phone: (404) 562-8190, Hours: 8 a.m. to 5 p.m., Monday through Friday (By Appointment Only).

Lake Park Library, 529 Park Avenue, Lake Park, Florida 30403, Phone: (561) 881-3330, Hours: 9 a.m. to 8:30 p.m., Monday and Tuesday, 9 a.m. to 5:30 p.m. , Wednesday through Friday, 9:30 a.m. to 2 p.m., Saturday.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 19, 2002.
A. Stanley Meiburg,
Acting Regional Administrator, Region 4.

[FR Doc. 02-23585 Filed 9-18-02; 8:45 am]

BILLING CODE 6560-50-P